FEDERAL COMMUNICATIONS COMMISSION

47 CFR Part 73

[DA 00-2426; MM Docket No. 99-312; RM-9735]

Radio Broadcasting Services; Mill Hall, Jersey Shore, and Pleasant Gap, PA

AGENCY: Federal Communications Commission.

ACTION: Final rule.

SUMMARY: The Commission, at the request of Forever Broadcasting, LLC., reallots Channel 249A from Jersey Shore to Mill Hall, Pennsylvania, and modifies Station WVRT(FM)'s license accordingly. We also reallot Channel 254A from Mill Hall to Pleasant Gap, Pennsylvania, and modify Station WZRZ(FM)'s license accordingly. See 64 FR 59728, November 3, 1999. Channel 249A can be reallotted to Mill Hall in compliance with the Commission's minimum distance separation requirements at Station WVRT(FM)'s requested site. The coordinates for Channel 249A at Mill Hall are 41-08-03 North Latitude and 77-28-09 West Longitude. Additionally, Channel 254A can be reallotted to Pleasant Gap in compliance with the Commission's minimum distance separation requirements at Station WZRZ(FM)'s requested site. The coordinates for Channel 254A at Pleasant Gap are 40-55-58 North Latitude and 77-45-40 West Longitude.

DATES: Effective December 11, 2000.

FOR FURTHER INFORMATION CONTACT: Sharon P. McDonald, Mass Media Bureau, (202) 418-2180.

SUPPLEMENTARY INFORMATION: This is a synopsis of the Commission's Report and Order, MM Docket No. 99-312, adopted October 18, 2000, and released October 27, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 154, 303, 334 and 336.

§ 73.202 [Amended]

2. Section 73.202(b), the Table of FM Allotments under Pennsylvania, is amended by adding Channel 249A and removing Channel 254A at Mill Hall; and adding Pleasant Gap, Channel 254A; and removing Channel 249A at Jersey Shore.

Federal Communications Commission.
John A. Karousos,
Chief, Allocations Branch, Policy and Rules Division, Mass Media Bureau.

[FR Doc. 00-28879 Filed 11-9-00; 8:45 am]

BILLING CODE 6712-01-U